COMMISSION ON CIVIL RIGHTS

Sunshine Act Notice

AGENCY: United States Commission on Civil Rights.

ACTION: Notice of meeting.

Date and Time: Friday, January 16, 2009; 9:30 a.m.

Place: 624 Ninth Street, NW., Rm. 540, Washington, DC 20425.

Meeting Agenda

I. Approval of Agenda

II. Approval of Minutes of December 12, 2008 Meeting

III. Announcements

IV. Staff Director's Report

V. Program Planning

• Future Briefing Topics

• Update on Status of 2009 Statutory Report

• Briefing Report on the Department of Justice's Enforcement of Voting Rights in the 2008 Presidential Elections

VI. State Advisory Committee Issues

• Alabama SAC

• Commissioner Involvement in SACs

VII. Future Agenda Items

VIII. Adjourn

Contact Person for Further Information: Lenore Ostrowsky, Acting Chief, Public Affairs Unit (202) 376-8582.

Dated: January 6, 2009.
David Blackwood,
General Counsel.

[FR Doc. E9-279 Filed 1-6-09; 4:15 pm]

BILLING CODE 6335-01-P